DEPARTMENT OF COMMERCE

National Oceanic and Atmospheric Administration

[RTID 0648-XB375]

Fisheries of the South Atlantic; South Atlantic Fishery Management Council; Public Meeting

AGENCY: National Marine Fisheries Service (NMFS), National Oceanic and Atmospheric Administration (NOAA), Commerce.

ACTION: Notice of public meeting.

SUMMARY: The South Atlantic Fishery Management Council (Council) will host a workgroup meeting via webinar to develop an ecosystem model to describe the ecological effects of increased Red Snapper recruitment.

DATES: The webinar meeting will be held September 21-23, 2021, from 12:30 p.m. until 5 p.m. each day.

ADDRESSES:

Meeting address: The meeting will be held via webinar. The webinar is open to members of the public. Information, including a link to webinar registration will be posted on the Council's website at: https://safmc.net/safmc-meetings/other-meetings/ as it becomes available.

Council address: South Atlantic Fishery Management Council, 4055 Faber Place Drive, Suite 201, N Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host a workgroup meeting to develop an ecosystem model to describe the ecological effects of increased Red Snapper recruitment. An ecosystem model has been developed for the South Atlantic region and the model is being parameterized to describe the potential ecological impact of changing Red Snapper recruitment. Modelers will present their ecosystem model to the workgroup to gather feedback and describe assumptions. Participants include ecosystem modelers, stock assessment scientists, biologists, and researchers. The product from the workgroup meeting will be a report to the Council.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: August 30, 2021.
Tracey L. Thompson,
Acting Deputy Director, Office of Sustainable Fisheries, National Marine Fisheries Service.

[FR Doc. 2021-18978 Filed 9-1-21; 8:45 am]

BILLING CODE 3510-22-P